DEPARTMENT OF TRANSPORTATION

Federal Aviation Administration

Notice of Intent To Rule on a Request To Release Airport Property at Arlington Municipal Airport, Arlington, WA

AGENCY: Federal Aviation Administration (FAA), DOT.

ACTION: Notice of request for public comment.

SUMMARY: The FAA proposes to rule and invites public comment on the release of airport property consisting of two buildings (Fire Hall, Armory/Instrument) at Arlington Municipal Airport from obligations under the provisions of the Surplus Property Act of 1944.

DATES: Comments must be received on or before October 29, 2007.

ADDRESSES: Comments on this application may be mailed or delivered to the FAA at the following address: Karen J. Miles; Civil Engineer, Federal Aviation Administration, Northwest Mountain Region, Airports Division, Seattle Airports District Office; 1601 Lind Avenue, SW., Suite 250; Renton, Washington 98057-3356. Telephone number: (425) 227-2661; Fax number: (425) 227-1650.

In addition, one copy of any comments submitted to the FAA must be mailed or delivered to Arlington Municipal Airport, Arlington, Washington: Mr. Rob Putnam, Airport Manager; City of Arlington; 18204 59th Drive, NE.; Arlington, WA 98223. Telephone number: (360) 403-3472; Fax number (360) 435-1012.

FOR FURTHER INFORMATION CONTACT: Karen Miles, at the above address. The request to release may be reviewed in person at this same location, by appointment or at the Offices of the Airport Manager, Arlington, Washington.

SUPPLEMENTARY INFORMATION: The FAA invites public comment on the release of airport property consisting of two buildings (Fire Hall, Armory/Instrument) from surplus property obligations. The airport proposes to demolish both buildings to clear the land for future aeronautical development. Both buildings are on Runway 16/34 flight line, and are in a condition that could be considered a potential public safety hazard. The buildings are within the Naval Auxiliary Air Station—Arlington Historic District, and FAA has completed consultation with the Washington State Historic Preservation Officer and other consulting parties pursuant to 36 CFR Part 800, regulations implementing Section 106 of the National Historic Preservation Act (16 U.S.C. Section 470f). Under consultation, the Armory/Instrument building was determined to be non-contributing to the district. The Fire Hall was determined to be contributing to the district and a Memorandum of Agreement has been signed stipulating mitigation to account for the adverse effect of demolition. Section 125 of the Wendell H. Ford Aviation Investment and Reform Act for the 21st Century (AIR-21) requires the FAA to provide an opportunity for public notice and comment prior to the “waiver” or “modification” of a sponsor's Federal obligation to use certain airport land for aeronautical purposes.

Carol A. Key,
Acting Assistant Manager, Seattle Airports District Office.

[FR Doc. 07-4800 Filed 9-27-07; 8:45 am]

BILLING CODE 4910-13-M